DEPARTMENT OF HOMELAND SECURITY

Federal Emergency Management Agency

[Docket ID FEMA-2025-0002; Internal Agency Docket No. FEMA-B-2527]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Kristin E. Fontenot,
Assistant Administrator, Risk Analysis, Planning & Information Directorate, Federal Emergency Management Agency, Department of Homeland Security.

State and county | Location and case No. | Chief executive officer of community | Community map repository | Online location of letter of map revision | Date of modification | Community No.
Arizona: Yavapai | City of Cottonwood (25-09-0337X). | The Honorable Ann Shaw, Mayor, City of Cottonwood, 827 North Main Street, Cottonwood, AZ 86326. | Public Works Department, 1490 West Mingus Avenue, Cottonwood, AZ 86326. | https://msc.fema.gov/portal/advanceSearch. | Jul. 23, 2025 | 040096
California:
Los Angeles | City of Los Angeles (25-09-0104P). | The Honorable Karen Bass, Mayor, City of Los Angeles, 200 North Spring Street, Room 303, Los Angeles, CA 90012. | Department of Public Works, 1149 South Broadway, Suite 800, Los Angeles, CA 90015. | https://msc.fema.gov/portal/advanceSearch. | Aug. 4, 2025 | 060137
Riverside | City of Lake Elsinore (24-09-1047P). | The Honorable Brian Tisdale, Mayor, City of Lake Elsinore, 130 South Main Street, Lake Elsinore, CA 92530. | City Hall, 130 South Main Street, Lake Elsinore, CA 92530. | https://msc.fema.gov/portal/advanceSearch. | Jul. 21, 2025 | 060636
Riverside | City of Murrieta (22-09-1427P). | The Honorable Lori Stone, Mayor, City of Murrieta, 1 Town Square, Murrieta, CA 92562. | Public Works Department, 1 Town Square, Murrieta, CA 92562. | https://msc.fema.gov/portal/advanceSearch. | Aug. 11, 2025 | 060751
San Diego | Unincorporated areas of San Diego County (24-09-0910P). | Ebony N. Shelton, Chief Administrative Officer, San Diego County, 1600 Pacific Highway, Room 209, San Diego, CA 92101. | San Diego County Flood Control Office, 5510 Overland Avenue, San Diego, CA 92123. | https://msc.fema.gov/portal/advanceSearch. | Jul. 23, 2025 | 060284
San Luis Obispo | City of San Luis Obispo (24-09-1118P). | The Honorable Erica A. Stewart, Mayor, City of San Luis Obispo, 990 Palm Street, San Luis Obispo, CA 93401. | Department of Public Works, 919 Palm Street, San Luis Obispo, CA 93401. | https://msc.fema.gov/portal/advanceSearch. | Jul. 23, 2025 | 060310
Ventura | City of Simi Valley (24-09-0344P). | The Honorable Dee Dee Cavanaugh, Mayor, City of Simi Valley, 2929 Tapo Canyon Road, Simi Valley, CA 93063. | City Hall, 2929 Tapo Canyon Road, Simi Valley, CA 93063. | https://msc.fema.gov/portal/advanceSearch. | Jul. 23, 2025 | 060421
Colorado:
Boulder | City of Louisville (24-08-0497P). | The Honorable Chris Leh, Mayor, City of Louisville, 749 Main Street, Louisville, CO 80027. | City Hall, 749 Main Street, Louisville, CO 80027. | https://msc.fema.gov/portal/advanceSearch. | Jul. 21, 2025 | 085076
Larimer | Unincorporated areas of Larimer County (24-08-0420P). | Kristin Stephens, Chair, Larimer County, Board of Commissioners, P.O. Box 1190, Fort Collins, CO 80522. | Larimer County Courthouse, 200 West Oak Street, Suite 3000, Fort Collins, CO 80521. | https://msc.fema.gov/portal/advanceSearch. | Aug. 1, 2025 | 080101
Weld | Town of Firestone (24-08-0277P). | The Honorable Don Conyac, Mayor, Town of Firestone, 9950 Park Avenue, Firestone, CO 80504. | Department of Engineering and Utilities, 9950 Park Avenue, Firestone, CO 80504. | https://msc.fema.gov/portal/advanceSearch. | Jul. 31, 2025 | 080241
Florida:
Duval | City of Jacksonville (25-04-0844P). | The Honorable Donna Deegan, Mayor, City of Jacksonville, 117 West Duval Street, Suite 400, Jacksonville, FL 32202. | City Hall, 117 West Duval Street, Suite 400, Jacksonville, FL 32202. | https://msc.fema.gov/portal/advanceSearch. | Aug. 6, 2025 | 0120077
Lake | Town of Lady Lake (24-04-7428P). | William Lawrence, Manager, Town of Lady Lake, 409 Fennell Boulevard, Lady Lake, FL 32159. | Town Hall, 409 Fennell Boulevard, Lady Lake, FL 32159. | https://msc.fema.gov/portal/advanceSearch. | Aug. 14, 2025 | 020613
Lee | Unincorporated areas of Lee County (24-04-6920P). | David Harner, Manager, Lee County, 2115 2nd Street, Fort Myers, FL 33901. | Lee County Building Department, 1500 Monroe Street, Fort Myers, FL 33901. | https://msc.fema.gov/portal/advanceSearch. | Aug. 4, 2025 | 125124
Palm Beach | City of Westlake (23-04-4870P). | The Honorable John Paul O'Connor, Mayor, City of Westlake, 4001 Seminole Pratt Whitney Road, Westlake, FL 33470. | City Hall, 4001 Seminole Pratt Whitney Road, Westlake, FL 33470. | https://msc.fema.gov/portal/advanceSearch. | Aug. 4, 2025 | 120018
Pasco | Unincorporated areas of Pasco County (24-04-5908P). | Kathryn Starkey, Chair, Pasco County, Board of Commissioners, 8731 Citizens Drive, New Port Richey, FL 33525. | Pasco County Building Construction Services Department, 8661 Citizens Drive, Suite 100, New Port Richey, FL 34654. | https://msc.fema.gov/portal/advanceSearch. | Aug. 14, 2025 | 120230
Idaho: Elmore | Unincorporated areas of Elmore County (24-10-0107P). | Bud Corbus, Chair, Elmore County, Board of Commissioners, 150 South 4th East Street, Mountain Home, ID 83647. | Elmore County Land Use and Building Department, 520 East 2nd Street South, Mountain Home, ID 83647. | https://msc.fema.gov/portal/advanceSearch. | Jul. 31, 2025 | 160212
Illinois:
Will | City of Joliet (24-05-2641P). | The Honorable Terry D'Arcy, Mayor, City of Joliet, 150 West Jefferson Street, Joliet, IL 60432. | City Hall, 150 West Jefferson Street, Joliet, IL 60432. | https://msc.fema.gov/portal/advanceSearch. | Aug. 15, 2025 | 170702
Will | Unincorporated areas of Will County (24-05-2641P). | Jennifer Bertino-Tarrant, Will County Executive, 302 North Chicago Street, Joliet, IL 60432. | Will County Land Use Department, 58 East Clinton Street, Suite 100, Joliet, IL 60432. | https://msc.fema.gov/portal/advanceSearch. | Aug. 15, 2025 | 170695
Missouri:
St. Louis | City of Brentwood (25-07-0359P). | Bola Akande, Administrator, City of Brentwood, 2348 South Brentwood Boulevard, Brentwood, MO 63144. | City Hall, 2348 South Brentwood Boulevard, Brentwood, MO 63144. | https://msc.fema.gov/portal/advanceSearch. | Aug. 11, 2025 | 290338
St. Louis | City of Maplewood (25-07-0359P). | Amber Withycombe, Manager, City of Maplewood, 7601 Manchester Road, Maplewood, MO 63143. | City Hall, 7601 Manchester Road, Maplewood, MO 63143. | https://msc.fema.gov/portal/advanceSearch. | Aug. 11, 2025 | 295266
St. Louis | City of Webster Groves (25-07-0359P). | The Honorable Laura Arnold, Mayor, City of Webster Groves, 4 East Lockwood Avenue, Webster Groves, MO 63119. | City Hall, 4 East Lockwood Avenue, Webster Groves, MO 63119. | https://msc.fema.gov/portal/advanceSearch. | Aug. 11, 2025 | 290394
Nevada:
Clark | City of Henderson (24-09-0945P). | The Honorable Michelle Romero, Mayor, City of Henderson, 240 Water Street, Henderson, NV 89015. | Public Works Department, 240 Water Street, Henderson, NV 89015. | https://msc.fema.gov/portal/advanceSearch. | Jul. 16, 2025 | 320005
Clark | City of North Las Vegas (24-09-1120P). | The Honorable Pamela Goynes-Brown, Mayor, City of North Las Vegas, 2250 Las Vegas Boulevard North, Suite 910, North Las Vegas, NV 89030. | Public Works Department, 2250 Las Vegas, Boulevard North, North Las Vegas, NV 89030. | https://msc.fema.gov/portal/advanceSearch. | Jul. 24, 2025 | 320007
Washoe | City of Reno (24-09-0332P). | The Honorable Hillary Schieve, Mayor, City of Reno, 1 East 1st Street, Reno, NV 89505. | City Hall, 1 East 1st Street, Reno, NV 89505. | https://msc.fema.gov/portal/advanceSearch. | Aug. 4, 2025 | 320020
Washoe | Unincorporated areas of Washoe County (24-09-0332P). | Eric Brown, Washoe County Manager, 1001 East 9th Street, Reno, NV 89512. | Washoe County Administration Complex, 1001 East 9th Street, Reno, NV 89512. | https://msc.fema.gov/portal/advanceSearch. | Aug. 4, 2025 | 320019
New York: Sullivan | Town of Rockland (25-02-0094P). | Robert Eggleton, Supervisor, Town of Rockland, 95 Main Street, Livingston Manor, NY 12758. | Town Hall, 95 Main Street, Livingston Manor, NY 12758. | https://msc.fema.gov/portal/advanceSearch. | Sep. 30, 2025 | 360829
North Carolina:
Durham | City of Durham (24-04-1754P). | The Honorable Leonardo Williams, Mayor, City of Durham, 101 City Hall Plaza, Durham, NC 27701. | Durham City-County Planning Department, 101 City Hall Plaza, Durham, NC 27701. | https://msc.fema.gov/portal/advanceSearch. | Aug. 21, 2025 | 370086
Durham | Unincorporated areas of Durham County (24-04-1754P). | Nida Allam, Chair, Durham County Board of Commissioners, 200 East Main Street, Durham, NC 27701. | Durham City-County Planning Department, 101 City Hall Plaza, Durham, NC 27701. | https://msc.fema.gov/portal/advanceSearch. | Aug. 21, 2025 | 370085
Oregon: Multnomah | City of Gresham (24-10-0644P). | The Honorable Travis Stovall, Mayor, City of Gresham, 1333 Northwest Eastman Parkway, Gresham, OR 97030. | City Hall, 1333 Northwest Eastman Parkway, Gresham, OR 97030. | https://msc.fema.gov/portal/advanceSearch. | Jul. 28, 2025 | 410181
Pennsylvania: York | Township of Warrington (24-03-0927P). | Jason Weaver, Chair, Township of Warrington Board of, Supervisors, 3345 Rosstown Road, Wellsville, PA 17365. | Township Hall, 3345 Rosstown Road, Wellsville, PA 17365. | https://msc.fema.gov/portal/advanceSearch. | Aug. 14, 2025 | 422232
South Carolina: Charleston | City of North Charleston (24-04-6653P). | The Honorable Reginald L. Burgess, Mayor, City of North Charleston, 2500 City Hall Lane, North Charleston, SC 29406. | City Hall, 2500 City Hall Lane, North Charleston, SC 29406. | https://msc.fema.gov/portal/advanceSearch. | Aug. 14, 2025 | 450042
Texas:
Collin | City of Lavon (24-06-2319P). | The Honorable Vicki Sanson, Mayor, City of Lavon, P.O. Box 340, Lavon, TX 75166. | City Hall, 120 School Road, Lavon, TX 75166. | https://msc.fema.gov/portal/advanceSearch. | Aug. 15, 2025 | 481313
Collin | City of Murphy (25-06-0241P). | The Honorable Scott Bradley, Mayor, City of Murphy, 206 North Murphy Road, Murphy, TX 75094. | City Hall, 206 North Murphy Road, Murphy, TX 75094. | https://msc.fema.gov/portal/advanceSearch. | Aug. 18, 2025 | 480137
Collin | City of Plano (25-06-0241P). | The Honorable John B. Muns, Mayor, City of Plano, 1520 K Avenue, Plano, TX 75074. | City Hall, 1520 K Avenue, Plano, TX 75074. | https://msc.fema.gov/portal/advanceSearch. | Aug. 18, 2025 | 480140
Dallas | City of Grand Prairie (24-06-1295P). | The Honorable Ron Jensen, Mayor, City of Grand Prairie, P.O. Box 534045, Grand Prairie, TX 75053. | City Hall, 300 West Main Street, Grand Prairie, TX 75050. | https://msc.fema.gov/portal/advanceSearch. | Jul. 7, 2025 | 485472
Dallas | City of Irving (24-06-1295P). | The Honorable Rick Stopfer, Mayor, City of Irving, 825 West Irving Boulevard, Irving, TX 75060. | City Hall, 825 West Irving Boulevard, Irving, TX 75060. | https://msc.fema.gov/portal/advanceSearch. | Jul. 7, 2025 | 480180
Fannin | City of Bonham (24-06-0129P). | The Honorable H. L. Compton, Mayor, City of Bonham, 514 Chestnut Street, Bonham, TX 75418. | City Hall, 514 Chestnut Street, Bonham, TX 75418. | https://msc.fema.gov/portal/advanceSearch. | Aug. 20, 2025 | 480222
Kaufman | City of Terrell (24-06-2328P). | The Honorable Rick Carmona, Mayor, City of Terrell, 201 East Nash Street, Terrell, TX 75142. | City Hall, 201 East Nash Street, Terrell, TX 75142. | https://msc.fema.gov/portal/advanceSearch. | Aug. 4, 2025 | 480416
Kaufman | Unincorporated areas of Kaufman County (24-06-2328P). | The Honorable Jakie Allen, Kaufman County Judge, 1902 East U.S. Highway 175, Kaufman, TX 75142. | Kaufman County Development Services Building, 101 North Houston Street, Kaufman, TX 75142. | https://msc.fema.gov/portal/advanceSearch. | Aug. 4, 2025 | 480411
Tarrant | City of Fort Worth (24-06-1014P). | The Honorable Mattie Parker, Mayor, City of Fort Worth, 100 Fort Worth Trail, Fort Worth, TX 76102. | Department of Transportation and Public Works, 100 Fort Worth Trail, Fort Worth, TX 76102. | https://msc.fema.gov/portal/advanceSearch. | Aug. 18, 2025 | 480596
Tarrant | City of Fort Worth (24-06-1845P). | The Honorable Mattie Parker, Mayor, City of Fort Worth, 100 Fort Worth Trail, Fort Worth, TX 76102. | Department of Transportation and Public Works, 100 Fort Worth Trail, Fort Worth, TX 76102. | https://msc.fema.gov/portal/advanceSearch. | Aug. 14, 2025 | 480596
Tarrant | City of Fort Worth (24-06-1981P). | The Honorable Mattie Parker, Mayor, City of Fort Worth, 100 Fort Worth Trail, Fort Worth, TX 76102. | Department of Transportation and Public Works, 100 Fort Worth Trail, Fort Worth, TX 76102. | https://msc.fema.gov/portal/advanceSearch. | Aug. 18, 2025 | 480596
Tarrant | City of Fort Worth (24-06-2148P). | The Honorable Mattie Parker, Mayor, City of Fort Worth, 100 Fort Worth Trail, Fort Worth, TX 76102. | Department of Transportation and Public Works, 100 Fort Worth Trail, Fort Worth, TX 76102. | https://msc.fema.gov/portal/advanceSearch. | Aug. 14, 2025 | 480596
Utah:
Davis | City of Farmington (24-08-0551P). | The Honorable Brett Anderson, Mayor, City of Farmington, 160 South Main Street, Farmington, UT 84025. | City Hall, 160 South Main Street, Farmington, UT 84025. | https://msc.fema.gov/portal/advanceSearch. | Jul. 28, 2025 | 490044
Davis | Unincorporated areas of Davis County (24-08-0551P). | Lorene Miner Kamalu, Chair, Davis County Board of Commissioners, P.O. Box 618, Farmington, UT 84025. | Davis County Administrative Office, 61 South Main Street, Farmington, UT 84025. | https://msc.fema.gov/portal/advanceSearch. | Jul. 28, 2025 | 490038

[FR Doc. 2025-10698 Filed 6-11-25; 8:45 am]

BILLING CODE 9110-12-P